DEPARTMENT OF HEALTH AND HUMAN SERVICES

Food and Drug Administration

[Docket Nos. FDA-2016-D-2335; FDA-2024-N-2888; FDA-2018-N-0180; FDA-2024-N-2149]

Agency Information Collection Activities; Announcement of Office of Management and Budget Approvals

AGENCY: Food and Drug Administration, HHS.

ACTION: Notice.

SUMMARY: The Food and Drug Administration (FDA) is publishing a list of information collections that have been approved by the Office of Management and Budget (OMB) under the Paperwork Reduction Act of 1995.

FOR FURTHER INFORMATION CONTACT: Amber Sanford, Office of Operations, Food and Drug Administration, Three White Flint North, 10A-12M, 11601 Landsdown St., North Bethesda, MD 20852, 301-796-8867, PRAStaff@fda.hhs.gov.

SUPPLEMENTARY INFORMATION: The following is a list of FDA information collections recently approved by OMB under section 3507 of the Paperwork Reduction Act of 1995 (44 U.S.C. 3507). The OMB control number and expiration date of OMB approval for each information collection are shown in table 1. Copies of the supporting statements for the information collections are available on the internet at https://www.reginfo.gov/public/do/PRAMain. An Agency may not conduct or sponsor, and a person is not required to respond to, a collection of information unless it displays a currently valid OMB control number.

Table 1—List of Information Collections Approved by OMB
Title of collection | OMB control No. | Date approval expires
Food Labeling Regulations | 0910-0381 | 4/30/2028
Substantial Equivalence Reports for Tobacco Products | 0910-0673 | 4/30/2028
Generic Clearance for the Collection of Quantitative Data on Tobacco Products and Communications | 0910-0810 | 4/30/2028
De Novo Classification Process (Evaluation of Automatic Class III Designation) | 0910-0844 | 4/30/2028
Human Drug Compounding, Repackaging, and Related Activities Regarding Sections 503A and 503B of the Federal Food, Drug, and Cosmetic Act | 0910-0858 | 4/30/2028

Dated: June 26, 2025.
Grace R. Graham,
Deputy Commissioner for Policy, Legislation, and International Affairs.

[FR Doc. 2025-12408 Filed 7-2-25; 8:45 am]

BILLING CODE 4164-01-P